DEPARTMENT OF COMMERCE

National Oceanic and Atmospheric Administration

RIN 0648-XC993

New England Fishery Management Council; Public Meetings

AGENCY: National Marine Fisheries Service (NMFS), National Oceanic and Atmospheric Administration (NOAA), Commerce.

ACTION: Notice; public meetings.

SUMMARY: The New England Fishery Management Council's (Council) Groundfish Oversight Committee and Electronic Monitoring Working Group (EMWG) will meet to consider actions affecting New England fisheries in the exclusive economic zone (EEZ).

DATES: These meetings will be held December 9, 2013 and December 10, 2013. For specific dates and times, see SUPPLEMENTARY INFORMATION.

ADDRESSES: Meeting address: These meetings will be held at the Omni Providence Hotel, 1 West Exchange Street, Providence, RI 02048; telephone: (401) 598-8000; fax: (401) 598-8200.

Council address: New England Fishery Management Council, 50 Water Street, Mill #2, Newburyport, MA 01950.

FOR FURTHER INFORMATION CONTACT: Thomas A. Nies, Executive Director, New England Fishery Management Council; telephone: (978) 465-0492.

SUPPLEMENTARY INFORMATION:

Monday, December 9, 2013 Beginning at 9 a.m.—Groundfish Oversight Committee Agenda

The Committee will review Plan Development Team (PDT) work related to the impacts of the alternatives under consideration in Framework 51 and potentially select preferred alternatives. The Committee may receive a brief update from the PDT on the development of alternatives for Amendment 18. The Committee will also address other business as necessary.

Tuesday, December 10, 2013 Beginning at 9:30 a.m.—Electronic Monitoring Working Group Agenda

The EMWG will continue its work on identifying barriers and possible solutions to implementing electronic monitoring in groundfish fishery sectors.

Although non-emergency issues not contained in this agenda may come before this group for discussion, those issues may not be the subject of formal action during these meetings. Action will be restricted to those issues specifically identified in this notice and any issues arising after publication of this notice that require emergency action under section 305(c) of the Magnuson-Stevens Fishery Conservation and Management Act, provided the public has been notified of the Council's intent to take final action to address the emergency.

Special Accommodations

These meetings are physically accessible to people with disabilities. Requests for sign language interpretation or other auxiliary aids should be directed to Thomas A. Nies (see ADDRESSES), at least 5 working days prior to the meeting date.

Authority: 16 U.S.C. 1801 et seq.

Dated: November 20, 2013.
Tracey L. Thompson,
Acting Deputy Director, Office of Sustainable Fisheries, National Marine Fisheries Service.

[FR Doc. 2013-28180 Filed 11-22-13; 8:45 am]

BILLING CODE 3510-22-P